COMMODITY FUTURES TRADING COMMISSION

17 CFR Parts 1, 15, 17, 19, 32, 37, 38, 140, and 150

RIN 3038-AD99; 3038-AD82

Position Limits for Derivatives and Aggregation of Positions; Correction

AGENCY: Commodity Futures Trading Commission.

ACTION: Notice of proposed rulemaking; provision of Table 11a; and reopening of comment periods; correction.

SUMMARY: This is a correction to the preamble of a document published by the Commodity Futures Trading Commission (“Commission”) in the Federal Register of February 25, 2015, regarding the reopening of the comment periods for proposed rulemakings to establish speculative position limits for 28 exempt and agricultural commodity futures and options contracts and the physical commodity swaps that are economically equivalent to such contracts (the “Position Limits Proposal”) and to amend existing regulations setting out the Commission's policy for aggregation under its position limits regime (the “Aggregation Proposal”). This correction clarifies the closing date for the reopened comment periods, which was inadvertently set to fall on a non-business day.

DATES: The comment periods for the Aggregation Proposal published November 15, 2013, at 78 FR 68946, and for the Position Limits Proposal published December 12, 2013, at 78 FR 75680, which reopened on February 26, 2015, will close on March 30, 2015.

FOR FURTHER INFORMATION CONTACT: Stephen Sherrod, Senior Economist, Division of Market Oversight, (202) 418-5452, ssherrod@cftc.gov; or Riva Spear Adriance, Senior Special Counsel, Division of Market Oversight, (202) 418-5494, radriance@cftc.gov; Commodity Futures Trading Commission, Three Lafayette Centre, 1155 21st Street NW., Washington, DC 20581.

Correction

In the Federal Register of February 25, 2015, in proposed rule FR Doc. 2015-03834, on page 10023, in the first column, correct the Dates caption to read:

DATES: The comment periods for the Aggregation Proposal published November 15, 2013, at 78 FR 68946, and for the Position Limits Proposal published December 12, 2013, at 78 FR 75680, will reopen on February 26, 2015, and will close on March 30, 2015.

Dated: March 19, 2015.
Christopher J. Kirkpatrick,
Secretary of the Commission.

[FR Doc. 2015-06688 Filed 3-19-15; 04:15 pm]

BILLING CODE 6351-01-P